ENVIRONMENTAL PROTECTION AGENCY

40 CFR Part 51

[EPA-R09-OAR-2012-0904, FRL-9775-9]

Partial Approval and Disapproval of Air Quality Implementation Plans; Arizona; Regional Haze and Visibility Transport; Extension of Comment Period

AGENCY: Environmental Protection Agency (EPA).

ACTION: Notice; extension of comment period.

SUMMARY: EPA is extending the public comment period for a proposed rule published in the Federal Register on December 21, 2012, with a former deadline for comments of February 4, 2013. The new deadline of March 6, 2013, will provide an additional 30 days for a total of 75 days to comment on our proposal. The proposal is to approve in part and disapprove in part a revision to Arizona's State Implementation Plan (SIP) to implement the regional haze program for the first planning period through 2018. The proposal includes all portions of the State's regional haze SIP except for three electric generating stations that were addressed in a final rule published on December 5, 2012.

DATES: Comments on the proposed rule published on December 21, 2012 (77 FR 75704) must be received on or before March 6, 2013.

ADDRESSES: You may submit comments, identified by Docket ID No. EPA-R09-OAR-2012-0904, by one of the following methods:

• Federal Rulemaking portal: http://www.regulations.gov. Follow the on-line instructions for submitting comments.

• Email: r9azreghaze@epa.gov.

• Fax: 415-947-3579 (Attention: Gregory Nudd)

• Mail, Hand Delivery or Courier: Gregory Nudd, EPA Region 9, Air Division (AIR-2), 75 Hawthorne Street, San Francisco, California 94105. Hand and courier deliveries are only accepted Monday through Friday, 8:30 a.m. to 4:30 p.m., excluding Federal holidays. Special arrangements should be made for deliveries of boxed information.

FOR FURTHER INFORMATION CONTACT: Gregory Nudd, U.S. EPA, Region 9, Planning Office, Air Division, Air-2, 75 Hawthorne Street, San Francisco, CA 94105. Gregory Nudd can be reached at telephone number (415) 947-4107 and via electronic mail at r9azreghaze@epa.gov.

SUPPLEMENTARY INFORMATION:

A. Instructions for Submitting Comments

EPA's policy is to include all comments received in the public docket without change. We may make comments available online at http://www.regulations.gov, including any personal information provided, unless the comment includes information claimed to be CBI or other information for which disclosure is restricted by statute. Do not submit information that you consider to be CBI or that is otherwise protected through http://www.regulations.gov or email. The http://www.regulations.gov web site is an “anonymous access” system, which means EPA will not know your identity or contact information unless you provide it in the body of your comment. If you send an email comment directly to EPA, without going through http://www.regulations.gov, we will include your email address as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should not include special characters or any form of encryption, and be free of any defects or viruses.

B. Docket

The proposed rule published on December 21, 2012, relies on documents, information and data that are listed in the index on http://www.regulations.gov under docket number EPA-R09-OAR-2012-0904. Although listed in the index, some information is not publicly available (e.g., Confidential Business Information (CBI)). Certain other material, such as copyrighted material, is publicly available only in hard copy form. Publicly available docket materials are available either electronically at http://www.regulations.gov or in hard copy at the Planning Office of the Air Division, AIR-2, EPA Region 9, 75 Hawthorne Street, San Francisco, CA 94105. EPA requests that you contact the individual listed in the FOR FURTHER INFORMATION CONTACT section to view the hard copy of the docket. You may view the hard copy of the docket Monday through Friday, 9-5:00 PST, excluding Federal holidays.

C. Submitting Confidential Business Information

Do not submit CBI to EPA through http://www.regulations.gov or email. Clearly mark the part or all of the information that you claim as CBI. For CBI information in a disk or CD ROM that you mail to EPA, mark the outside of the disk or CD-ROM as CBI and identify electronically within the disk or CD-ROM the specific information that is claimed as CBI. In addition to one complete version of the comment that includes information claimed as CBI, you must submit a copy of the comment that does not contain the information claimed as CBI for inclusion in the public docket. We will not disclose information so marked except in accordance with procedures set forth in 40 CFR part 2.

D. Tips for Preparing Comments

When submitting comments, remember to:

• Identify the rulemaking by docket number and other identifying information (e.g., subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the identified comment period deadline.

Dated: January 28, 2013.
Alexis Strauss,
Acting Regional Administrator, EPA Region 9.

[FR Doc. 2013-02394 Filed 2-1-13; 8:45 am]

BILLING CODE 6560-50-P